DEPARTMENT OF THE INTERIOR

Fish and Wildlife Service

[FWS-R2-ES-2008-N0144; 20124-1113-0000-F5]

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before July 30, 2008.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-1817501

Applicant: Paul Stone, DeRidder, Louisiana.

Applicant requests a new permit for research and recovery purposes to conduct presence/absence surveys of red-cockaded woodpecker (Picoides borealis) within Texas, Louisiana, and Mississippi.

Permit TE-181762

Applicant: Jeffrey George, South Padre Island, Texas.

Applicant requests a new permit for research and recovery purposes to conduct presence/absence surveys of the following species: Kemp's Ridley sea turtle (Lepidochelys kempii), leatherback sea turtle (Dermochelys coriacea), and hawksbill sea turtle (Eretmochelys imbricata) within Texas and the Gulf of Mexico.

Permit TE-821356

Applicant: U.S. Geologic Survey, Southwest Biological Science Center, Grand Canyon Monitoring and Research Center, Flagstaff, Arizona.

Applicant requests an amendment to a current permit for research and recovery purposes to conduct presence/absence surveys of razorback sucker (Xyrauchen texanus) within Arizona.

Permit TE-814933

Applicant: Texas Parks and Wildlife Department, Austin, Texas.

Applicant requests an amendment to a current permit for research and recovery purposes to conduct presence/absence surveys of Rio Grande silvery minnow (Hybognathus amarus) within Texas.

Permit TE-183429

Applicant: Bureau of Land Management, Tulsa, Oklahoma.

Applicant requests a new permit for research and recovery purposes to conduct presence/absence surveys of the American burying beetle (Nicrophorus americanus) within Oklahoma.

Permit TE-056119

Applicant: Marlin Sawyer, San Antonio, Texas.

Applicant requests an amendment to a current permit for research and recovery purposes to conduct presence/absence surveys of the following species: whooping crane (Grus americana), northern aplomado falcon (Falco femoralis septentrionalis), southwestern willow flycatcher (Empidonax traillii extimus), and interior least tern (Sterna altillarum) within Texas.

Authority: 16 U.S.C. 1531 et seq.

Dated: June 9, 2008.
Christopher Jones,
Acting Regional Director, Southwest Region, Fish and Wildlife Service.

[FR Doc. E8-14733 Filed 6-27-08; 8:45 am]

BILLING CODE 4310-55-P